NATIONAL AERONAUTICS AND SPACE ADMINISTRATION

[Notice 19-045]

Name of Information Collection: Financial Assistant Awards/Grants and Cooperative Agreements

AGENCY: National Aeronautics and Space Administration (NASA).

ACTION: Notice of information collection; renewal.

SUMMARY: The National Aeronautics and Space Administration, as part of its continuing effort to reduce paperwork and respondent burden, invites the general public and other Federal agencies to take this opportunity to comment on proposed and/or continuing information collections.

DATES: All comments should be submitted within 30 calendar days from the date of this publication.

ADDRESSES: All comments should be addressed to Gatrie Johnson, National Aeronautics and Space Administration, 300 E Street SW, Washington, DC 20546-0001.

FOR FURTHER INFORMATION CONTACT: Requests for additional information or copies of the information collection instrument(s) and instructions should be directed to Gatrie Johnson, NASA Clearance Officer, NASA Headquarters, 300 E Street SW, JF0000, Washington, DC 20546 or email Gatrie.Johnson@nasa.gov.

SUPPLEMENTARY INFORMATION:

I. Abstract

This is a request to renew OMB control number 2700-0092. This collection is required to ensure proper accounting of Federal funds and property provided under financial assistance awards (grants and cooperative agreements). Reporting and recordkeeping are prescribed at 2 CFR part 1800 for awards issued to nonprofits, institutions of higher educations, government, and commercial firms when cost sharing is not required and 14 CFR part 1274 for awards issued to commercial firms when cost sharing is required.

II. Methods of Collection

Proposals are submitted through the NASA Solicitation and Proposal Integrated Review and Evaluation System (NSPIRES) or Grants.gov. The use of these systems reduces the need for proposers to submit multiple copies to the agency. It allows proposers to submit multiple proposals to different funding announcements without registering each time. Electronic funds transfer is used for payment under Treasury guidance, for commercial firms and through the HHS Payment Management System (PMS) for other recipients. In addition, NASA encourages the use of computer technology and is participating in Federal efforts to extend the use of information technology to more Government processes.

Basis of Estimate

Approximately 6,100 NASA financial assistance awards are open at any one time. It is estimated that out of the 7,100 proposals received each year, NASA awards approximately 1,600 new awards. The period of performance for each financial assistance award is usually three to five years. NASA had approximately 120 awards with commercial firms. Commercial firms submit quarterly payment requests directly to NASA, while other recipients submit the Federal Financial Reports (SF 425) on a quarterly basis to the HHS PMS. Performance, Property, and Patent Reports are filed annually. Historical records indicate that, on average, 1,625 changes are submitted annually. The total number of respondents is based on the average number of proposals that are received each year and the average number of active grants that are managed each year. The total number of hours spent on each task was estimated through historical records and experience of former recipients. Using past calculations, the total cost was estimated using the average salary (wages and benefits) for a GS-12 step 5.

III. Data

Title: Financial Assistant Awards/Grants and Cooperative Agreements.

OMB Number: 2700-0092.

Type of Review: Renewal of a previously approved information collection.

Affected Public: Non-profits, institutions of higher educations, government, and commercial firms.

Estimated Number of Respondents: 13,600.

Estimated Total Annual Burden Hours: 717,641.

Estimated Total Annual Cost to Respondents: $25,131,787.82.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gatrie Johnson,
NASA PRA Clearance Officer.

[FR Doc. 2019-17362 Filed 8-13-19; 8:45 am]

BILLING CODE 7510-13-P